SECURITIES AND EXCHANGE COMMISSION

[Release No. 34-72473; File No. SR-Phlx-2014-34]

Self-Regulatory Organizations; NASDAQ OMX PHLX LLC; Notice of Withdrawal of Proposed Rule Change To Delete the PHOTO Historical Data Product From Section IX of the Exchange's Options Fee Schedule

June 25, 2014.

On May 9, 2014, NASDAQ OMX PHLX LLC (the “Exchange” or “Phlx”) filed with the Securities and Exchange Commission (the “Commission”), pursuant to Section 19(b)(1) of the Securities Exchange Act of 1934 (the “Act”) ¹ and Rule 19b-4 thereunder,² a proposed rule change to delete the PHOTO Historical data product from Section IX of the Exchange's Options Fee Schedule. The proposed rule change was published for comment in the Federal Register on May 29, 2014.³ The Commission has not received any comment letters on the proposal. On June 24, 2014, the Exchange withdrew the proposed rule change (SR-Phlx-2014-34).

¹ 15 U.S.C. 78s(b)(1).

² 17 CFR 240.19b-4.

³ See Securities Exchange Act Release No. 72225 (May 22, 2013), 79 FR 30917.

For the Commission, by the Division of Trading and Markets, pursuant to delegated authority.⁴
⁴ 17 CFR 200.30-3(a)(31).
Kevin M. O'Neill,
Deputy Secretary.

[FR Doc. 2014-15328 Filed 6-30-14; 8:45 am]

BILLING CODE 8011-01-P